DEPARTMENT OF JUSTICE

[CPCLO Order No. 005-2011]

Privacy Act of 1974; System of Records

AGENCY: Federal Bureau of Prisons, Department of Justice.

ACTION: Notice of Modification of a System of Records.

SUMMARY: Pursuant to the Privacy Act of 1974 (5 U.S.C. 552a), notice is given that the Federal Bureau of Prisons (Bureau) proposes to modify in part its system of records entitled “Telephone Activity Record System, JUSTICE/BOP-011.” The system notice, which was last published in the Federal Register, 67 FR 16762 (Apr. 8, 2002), is now being modified.

The Bureau clarifies that the records contained in this system may be located at any authorized location, in addition to the Central Office, Regional Offices, any of the Federal Bureau of Prisons (Bureau) and/or contractor-operated correctional facilities. This clarification is made for accuracy, and to allow for the Bureau to store records at other locations, such as other Bureau administrative offices, or at authorized Department of Justice locations.

The Bureau is also adding two sections, i.e., Security Classification and the “Disclosure to a Consumer Reporting Agency.”

DATES: In accordance with 5 U.S.C. 552a(e)(4) and (11), the public is given a 30-day period in which to comment. Therefore, please submit any comments by January 20, 2012.

ADDRESSES: The public, Office of Management and Budget, and Congress are invited to submit comments to the Department of Justice, ATTN: Privacy Analyst, Office of Privacy and Civil Liberties, National Place Building, 1331 Pennsylvania Avenue NW., Suite 1000, Washington, DC 20530-0001, or by facsimile at (202) 307-0693.

FOR FURTHER INFORMATION CONTACT: Sarah Qureshi, Federal Bureau of Prisons, (202) 307-2105.

In accordance with 5 U.S.C. 552a(r), the Department has provided a report to OMB and Congress on the modified system of records.

Dated: November 30, 2011.
Nancy C. Libin,
Chief Privacy and Civil Liberties Officer, United States Department of Justice.

JUSTICE/BOP-011

SYSTEM NAME:

Telephone Activity Record System.

SECURITY CLASSIFICATION:

Unclassified.

SYSTEM LOCATION:

Records may be retained at the Central Office, Regional Offices, Federal Bureau of Prisons (Bureau) facilities, any location operated by a contractor authorized to provide computer, and/or telephone service to the BOP for inmate use, or any other authorized location. A list of Bureau facilities may be found at 28 CFR part 503 and on the Internet at http://www.bop.gov.

* * * * *

DISCLOSURE TO CONSUMER REPORTING AGENCIES:

None.

* * * * *

[FR Doc. 2011-32637 Filed 12-20-11; 8:45 am]

BILLING CODE 4410-05-P